DEPARTMENT OF TRANSPORTATION

National Highway Traffic Safety Administration

Petition for Exemption From the Vehicle Theft Prevention Standard; Mitsubishi Motors

AGENCY: National Highway Traffic Safety Administration (NHTSA), Department of Transportation (DOT).

ACTION: Grant of petition for exemption.

SUMMARY: This document grants in full the Mitsubishi Motors R&D of America, Inc.'s (Mitsubishi) petition for exemption of the Mitsubishi i-MiEV vehicle line in accordance with 49 CFR part 543, Exemption From the Theft Prevention Standard. This petition is granted, because the agency has determined that the antitheft device to be placed on the line as standard equipment is likely to be as effective in reducing and deterring motor vehicle theft as compliance with the parts-marking requirements of the 49 CFR part 541, Federal Motor Vehicle Theft Prevention Standard. Mitsubishi requested confidential treatment for specific information in its petition. The agency addressed Mitsubishi's request for confidential treatment by letter dated February 14, 2012.

DATES: The exemption granted by this notice is effective beginning with the 2013 model year (MY).

FOR FURTHER INFORMATION CONTACT: Ms. Deborah Mazyck, Office of International Policy, Fuel Economy and Consumer Programs, NHTSA, West Building, W43-443, 1200 New Jersey Avenue SE., Washington, DC 20590. Ms. Mazyck's phone number is (202) 366-0846. Her fax number is (202) 493-2990.

SUPPLEMENTARY INFORMATION: In a petition dated January 3, 2012, Mitsubishi requested exemption from the parts-marking requirements of the Theft Prevention Standard (49 CFR Part 541) for the Mitsubishi i-MiEV vehicle line, beginning with MY 2013. The petition requested an exemption from parts-marking pursuant to 49 CFR part 543, Exemption From Vehicle Theft Prevention Standard, based on the installation of an antitheft device as standard equipment for the entire vehicle line.

Under § 543.5(a), a manufacturer may petition NHTSA to grant an exemption for one vehicle line per model year. In its petition, Mitsubishi provided a detailed description and diagram of the identity, design and location of the components of the antitheft device for the i-MiEV vehicle line. Mitsubishi will install a passive, transponder-based, electronic engine immobilizer system as standard equipment on its i-MiEV vehicle line beginning with MY 2013. Features of the antitheft device will include a transponder key, Electronic Time and Alarm Control System Electronic Control Unit (ETACS ECU) and an Electric Vehicle Electronic Control Unit (EV ECU), key ring antenna and a passive immobilizer. Mitsubishi will also incorporate an audible and visual alarm system as standard equipment on the entire vehicle line. Mitsubishi's submission is considered a complete petition as required by 49 CFR 543.7, in that it meets the general requirements contained in 543.5 and the specific content requirements of 543.6.

Mitsubishi stated that the transponder-based, electronic engine immobilizer device prevents unauthorized starting of the engine. The transponder is located in a traditional key that must be inserted into the key cylinder and turned to the “ON” position in order to activate the ignition. Mitsubishi also stated that activation of the immobilizer does not require the doors to be locked. Activation of the device automatically occurs when the ignition switch is turned to the “OFF” position with a valid key and deactivated when it is turned to the “ON” position with an invalid key. Mitsubishi further stated that the immobilizer system checks the key code once the ignition switch is turned to the “ON” position. The key ring antenna reads the specific ignition key code for the vehicle and transmits an encrypted message containing the key code to the ETACS ECU. The ETACS ECU determines if the key is valid and authorizes the engine to start by sending a separate encrypted message to the EV ECU. The engine will start only if the key code matches the unique identification key code previously programmed into the EV ECU. If the codes do not match, the engine will be disabled.

In addressing the specific content requirements of 543.6, Mitsubishi provided information on the reliability and durability of its proposed device. To ensure reliability and durability of the device, Mitsubishi conducted tests based on its own specified standards. Mitsubishi provided a detailed list of the tests conducted and believes that the device is reliable and durable since the device complied with its specific requirements for each test. Mitsubishi additionally stated that its immobilizer system is further enhanced by several factors making it very difficult to defeat. Specifically, Mitsubishi stated that communication between the transponder and the ECU are encrypted and that there are over 4.3 billion possible key codes that make successful key code duplication virtually impossible. Mitsubishi also stated that its immobilizer system and the ECU share security data during vehicle assembly that make them a matched set. These matched modules will not function if taken out and reinstalled separately on other vehicles. Mitsubishi further stated that it is impossible to mechanically override the system and start the vehicle, because the vehicle will not be able to start without the transmission of the specific code to the electronic control module. Lastly, Mitsubishi stated that the antitheft device is extremely reliable and durable because there are no moving parts, nor does the key require a separate battery.

Mitsubishi informed the agency that the i-MiEV vehicle line was first equipped with the proposed device beginning with its MY 2012 vehicles. Additionally, Mitsubishi informed the agency that the Eclipse, Galant, Endeavor, Outlander, Lancer and Outlander Sport vehicle lines have been equipped with a similar type of immobilizer device since January 2000, January 2004, April 2004, September 2006, March 2007 and September 2010 respectively, and they have all been granted parts-marking exemptions by the agency. Mitsubishi also stated that beginning with its MY 2000 vehicles, the Eclipse vehicle line has been equipped with a similar device. Mitsubishi further stated that the theft rate for the MY 2000 Eclipse decreased by almost 42 percent when compared with that of its MY 1999 Mitsubishi Eclipse (unequipped with an immobilizer device). Mitsubishi has concluded that the antitheft device proposed for its vehicle line is no less effective than those devices in the lines for which NHTSA has already granted full exemption from the parts-marking requirements. The average theft rates using three MY's data for the Mitsubishi Eclipse, Galant, Endeavor, Outlander and Lancer vehicle lines and are 2.5788, 5.1114, 1.3723, 0.6374 and 2.5519 respectively, and theft rates are not available for the Outlander Sport vehicle line.

Based on the supporting evidence submitted by Mitsubishi on the device, the agency believes that the antitheft device for the i-MiEV vehicle line is likely to be as effective in reducing and deterring motor vehicle theft as compliance with the parts-marking requirements of the Theft Prevention Standard (49 CFR part 541). The agency concludes that the device will provide the five types of performance listed in § 543.6(a)(3): Promoting activation, attract attention to the efforts of an unauthorized person to enter or move a vehicle by means other than a key, preventing defeat or circumvention of the device by unauthorized persons, preventing operation of the vehicle by unauthorized entrants and ensuring the reliability and durability of the device.

Pursuant to 49 U.S.C. 33106 and 49 CFR 543.7(b), the agency grants a petition for an exemption from the parts-marking requirements of Part 541 either in whole or in part, if it determines that, based upon substantial evidence, the standard equipment antitheft device is likely to be as effective in reducing and deterring motor vehicle theft as compliance with the parts-marking requirements of Part 541. The agency finds that Mitsubishi has provided adequate reasons for its belief that the antitheft device for the Mitsubishi i-MiEV vehicle line is likely to be as effective in reducing and deterring motor vehicle theft as compliance with the parts-marking requirements of the Theft Prevention Standard (49 CFR part 541). This conclusion is based on the information Mitsubishi provided about its device.

For the foregoing reasons, the agency hereby grants in full Mitsubishi's petition for exemption for the Outlander Sport vehicle line from the parts-marking requirements of 49 CFR part 541, beginning with the 2013 MY vehicles. The agency notes that 49 CFR part 541, Appendix A-1, identifies those lines that are exempted from the Theft Prevention Standard for a given model year. 49 CFR 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Mitsubishi decides not to use the exemption for this line, it must formally notify the agency. If such a decision is made, the line must be fully marked as required by 49 CFR parts 541.5 and 541.6 (marking of major component parts and replacement parts).

NHTSA notes that if Mitsubishi wishes in the future to modify the device on which this exemption is based, the company may have to submit a petition to modify the exemption. Part 543.7(d) states that a Part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that § 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Issued on: March 28, 2012.
Christopher J. Bonanti,
Associate Administrator for Rulemaking.

[FR Doc. 2012-8049 Filed 4-3-12; 8:45 am]

BILLING CODE 4910-59-P